DEPARTMENT OF STATE

[Delegation of Authority No. 389]

Delegation to the Assistant Secretary for International Security and Nonproliferation of Authority Under Section 1322(a) of the Fiscal Year 2015 National Defense Authorization Act (Pub. L. 113-291)

By the virtue of the authority vested in the Secretary of State, including Section 1 of the State Department Basic Authorities Act, as amended (22 U.S.C. 2651a), and by Section 1322(a) of the Fiscal Year 2015 National Defense Authorization Act, Public Law 113-291 (the NDAA), I hereby delegate to the Assistant Secretary of State for International Security and Nonproliferation, to the extent authorized by law, the authority to provide concurrence on proposed assistance by the Department of Defense pursuant to Section 1322(a) of the NDAA when such concurrence is required by Section 1322(c).

Any act, executive order, regulation, or procedure subject to, or affected by, this delegation shall be deemed to be such act, executive order, regulation, or procedure as amended from time to time.

Notwithstanding this delegation of authority, the Secretary, the Deputy Secretary, the Deputy Secretary for Management and Resources, or the Under Secretary for Arms Control and International Security may at any time exercise any authority or function delegated by this delegation of authority.

This delegation of authority shall be published in the Federal Register.

Dated: October 15, 2015.
John F. Kerry,
Secretary of State.

[FR Doc. 2015-29616 Filed 11-18-15; 8:45 am]

BILLING CODE 4710-27-P